DEPARTMENT OF LABOR

Employment and Training Administration

[TA-W-61,706]

Wheeling-Pittsburgh Steel, Currently Known as Severstal Wheeling, Inc., Mingo Junction, Ohio; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on July 12, 2007, applicable to workers of Wheeling-Pittsburgh Steel, Mingo Junction, Ohio. The notice was published in the Federal Register on July 26, 2007 (72 FR 41087).

At the request of the State agency, the Department reviewed the certification for workers of the subject firm. The workers are engaged in the production of steel slabs and coils. These include low carbon steel slabs and hot rolled sheet coil.

New information shows that following a change in ownership in August 2008, Wheeling Pittsburgh Steel is currently known as SeverStal Wheeling, Inc. Accordingly, the Department is amending the certification to reflect ownership by the successor firm, SeverStal Wheeling, Inc.

The amended notice applicable to TA-W-61,706 is hereby issued as follows:

All workers of Wheeling Pittsburgh Steel, currently known as SeverStal Wheeling, Inc., Mingo Junction, Ohio, who became totally or partially separated from employment on or after May 31, 2006, through July 12, 2009, are eligible to apply for adjustment assistance under Section 223 of the Trade Act of 1974, and are also eligible to apply for alternative trade adjustment assistance under Section 246 of the Trade Act of 1974.

Signed at Washington, DC this 12th day of May 2009.
Linda G. Poole,
Certifying Officer, Division of Trade Adjustment Assistance.

[FR Doc. E9-14064 Filed 6-15-09; 8:45 am]

BILLING CODE 4510-FN-P